COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List a product and services to be furnished by nonprofit agencies employing persons who are blind or have other severe disabilities, and to delete a product and a service previously furnished by such agencies.

Comments Must Be Received on or Before: September 17, 2006.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

Product/NSN: Fluorescent Highlighter Set (GSA Global Supply only), 7520-01-383-7959.

NPA: San Antonio Lighthouse for the Blind, San Antonio, Texas.

Contracting Activity: Office Supplies & Paper Products Acquisition Center, New York, New York.

Services

Service Type/Location: Custodial Services, Port Isabel Detention Center, 27991 Buena Vista Road, Port Isabel, Texas.

NPA: Mavagi Enterprises, Inc., San Antonio, Texas.

Contracting Activity: DHS Immigration and Customs Enforcement, Dallas, Texas.

Service Type/Location: Full Food Service, Fort Drum, 45 West Street, Fort Drum, New York.

NPA: Jefferson County Chapter, NYSARC, Watertown, New York.

Contracting Activity: Army Contracting Agency, Fort Drum, New York.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the product and service to the Government.

3. There are no known regulatory alternatives which would accomplish the objectives of the Javits-Wagner-O'Day Act (41 U.S.C. 46-48c) in connection with the product and service proposed for deletion from the Procurement List.

End of Certification

The following product and service are proposed for deletion from the Procurement List:

Products

Product/NSNs: Pad, Floor Polishing Machine

7910-00-985-6851

7910-00-985-6853

7910-00-985-6855

7910-00-985-6856

7910-00-985-6857

7910-00-985-6858

7910-00-985-6859

7910-00-985-6860

7910-00-985-6861

7910-00-985-6862

7910-00-985-6863

7910-00-985-6864

7910-00-985-6866

7910-00-985-6868

7910-00-985-6869

7910-00-985-6870

7910-00-985-6871

7910-00-985-6872

7910-00-985-6873

7910-00-985-6874

7910-00-985-6875

7910-00-985-6876

7910-00-985-6800

NPA: Beacon Lighthouse, Inc., Wichita Falls, Texas.

Contracting Activity: GSA, Southwest Supply Center, Fort Worth, Texas.

Product/NSNs: Floor Scrubbing Machine Pad

7910-00-NIB-0021—Lime, 19 in. diam., High Speed

7910-00-NIB-0022—Lime, 21 in. diam., High Speed

7910-00-NIB-0023—Dark Green, 22 in. diam., High Speed

NPA: Beacon Lighthouse, Inc., Wichita Falls, Texas.

Contracting Activity: GSA, Southwest Supply Center, Fort Worth, Texas.

Service

Service Type/Location: Janitorial/Custodial, Military Traffic Management Command, 1312th Medium Port Command, Compton, California.

NPA: None currently authorized.

Contracting Activity: Department of the Army.

Sheryl D. Kennerly,
Director, Information Management.

[FR Doc. E6-13671 Filed 8-17-06; 8:45 am]

BILLING CODE 6353-01-P